DEPARTMENT OF DEFENSE

Department of the Navy

Notice of Public Meetings for Commonwealth of the Northern Mariana Islands Joint Military Training Revised Draft Environmental Impact Statement (ID# EISX-007-17-XMC-1747255459)

AGENCY: Department of the Navy (DoN), Department of Defense (DoD).

ACTION: Notice.

SUMMARY: Pursuant to the National Environmental Policy Act (NEPA), the DoN (including the U.S. Marine Corps (USMC)), has prepared and filed with the U.S. Environmental Protection Agency a Revised Draft Environmental Impact Statement (EIS) for Commonwealth of the Northern Mariana Islands Joint Military Training (CJMT). The Revised Draft EIS includes an analysis of the potential environmental effects associated with conducting land-based training, specifically within the Military Lease Area on the island of Tinian in the Commonwealth of the Northern Mariana Islands (CNMI). New training infrastructure would be constructed on Tinian to support the training.

DATES: The 75-day public comment period begins on June 6, 2025, and ends on August 20, 2025. The comment period includes an additional 30 calendar days (from the required 45 days) to allow the public sufficient time to review and comment. In support of NEPA requirements, in-person public meetings on the islands of Tinian, Saipan, and Rota will be held in June 2025 to provide an overview of the Revised Draft EIS and take comments from the public. Each meeting will also provide an opportunity to learn about how the USMC is complying with the Section 106 process of the National Historic Preservation Act (NHPA) and to comment on resolving potential effects on historic properties.

The public can submit comments during the Revised Draft EIS public review and comment period at one of the in-person public meetings, electronically via the project website (www.CNMIJointMilitaryTrainingEIS.com), or via U.S. mail. Public comments on the Draft EIS must be postmarked or received online by August 20, 2025, for consideration in the Final EIS.

Five in-person public meetings will be held as follows:

1. June 23 and 24, 2025, beginning at 5 p.m. Chamorro standard time (ChST) at the Tinian Junior/Senior High School Cafeteria, Canal Street, San Jose, Tinian;

2. June 25 and 26, 2025, beginning at 5 p.m. ChST at the Crowne Plaza (Hibiscus Hall), Coral Tree Avenue, Garapan, Saipan;

3. June 27, 2025, beginning at 3 p.m. ChST at the Rota Mayor's Office, San Francisco de Borja Highway, Tatachok, Rota.

ADDRESSES: Comments on the Draft EIS may be provided at the in-person public meetings, electronically through the project website at: www.CJMTJointMilitaryTrainingEIS.com, or by U.S. mail to: CJMT Project Manager, 415 Chalan San Antonio Road, Suite 112, Baltej Pavillion Building, Tamuning, Guam 96913.

SUPPLEMENTARY INFORMATION: The purpose of the Proposed Action is to reduce joint training deficiencies for U.S. Armed Forces in the Indo-Pacific area of operations. The development and operation of a realistic and instrumented training environment on Tinian would enable forward-deployed U.S. Armed Forces to meet evolving operational training requirements and support U.S. training with allied nations, changes in U.S. force structure, and geographic repositioning of forces.

The Proposed Action would support land-based expeditionary warfare tactics and training within the Military Lease Area on Tinian and would accommodate land-based training for all service components of the United States Indo-Pacific Command, including the USMC, Navy, Air Force, Army, Special Operations Command, and Space Command, as well as U.S. allies and partners.

New training infrastructure would create a physical and virtual training environment to include two live-fire ranges, improvements to North Field, the development of Landing Zones, an expeditionary Base Camp at the former U.S. Agency for Global Media site, and a communications system using a combination of sensors, emitters, and communication towers. Subject to additional approvals, construction would include a biosecurity area at the Port of Tinian and an aircraft shelter at the Francisco Manglona Borja/Tinian International Airport. To ensure training unit and public safety during training, an on-island Training Area and Range Operations Command (Range Control) would be established. Range Control would schedule training and coordinate with local officials and the public.

Two training Alternatives and a No Action Alternative on Tinian are analyzed in this Revised Draft EIS. Under the No Action Alternative, existing land-based training at levels analyzed in existing NEPA documents for Tinian would continue (see the 2010 Mariana Islands Range Complex Final EIS/Overseas Environmental Impact Statement (OEIS), 2015 Mariana Islands Training and Testing EIS/OEIS, and associated consultations and authorizations). Much of the proposed training is similar to existing training in terms of type that have been conducted on Tinian in recent decades. Alternative 1 and Alternative 2 would represent new training infrastructure with varying increases over existing training tempos.

Potential effects on environmental resources resulting from activities included in the two Action Alternatives and the No Action Alternative were evaluated in accordance with NEPA. Resources analyzed in this Revised Draft EIS include, but are not limited to, public access, land use and recreation, socioeconomics, biological resources, cultural resources, noise, air quality, public health and safety, utilities, and groundwater and hydrology. The Revised Draft EIS also includes an analysis of measures that would avoid, minimize, or mitigate environmental effects potentially resulting from military training and construction of training infrastructure. Direct, indirect, and cumulative effects on these resource areas are analyzed in the Revised Draft EIS.

The USMC is coordinating and consulting with appropriate Federal agencies as required by the NHPA, Endangered Species Act, Magnuson‐Stevens Fishery Conservation and Management Act, Clean Water Act, Rivers and Harbors Act, Coastal Zone Management Act, Clean Air Act, and other laws and regulations as determined to be applicable to the project.

The USMC distributed the Revised Draft EIS to the CNMI government agencies, Federal Government agencies they are consulting with, and other interested persons. The Revised Draft EIS is available for public review on the project website at www.CJMTJointMilitaryTrainingEIS.com and at these public libraries:

1. Joeten-Kiyu Public Library, Saipan.

2. Tinian Public Library, Tinian.

3. Antonio C. Atalig Memorial Rota Public Library, Rota.

The public involvement process is helpful in identifying public concerns and local issues to be considered during the development of the EIS. The USMC encourages the public to provide substantive comments on the Proposed Action and the environmental analysis, as well as the project's potential to affect historic properties as it relates to section 106 of the NHPA. All comments received prior to the deadline of August 20, 2025 at the in-person public meetings, electronically via the project website, or mailed to the address provided in the ADDRESSES section will be considered during the development of the Final EIS.

In-person public meetings on Tinian and Saipan will begin at approximately 5 p.m. local time; the meeting on Rota will begin at 3 p.m. local time. Informational posters will be displayed, and project team members will be available to discuss the Proposed Action and accept comments, written and oral, from the public. A Chamorro and Carolinian interpreter will be available at each of the five in-person public meetings.

Oral comments will be recorded by a stenographer. Equal weight will be given to oral and written statements.

Dated: May 28, 2025.
A.R. DeMaio,
Lieutenant Commander, Judge Advocate General's Corps, U.S. Navy, Federal Register Liaison Officer.

[FR Doc. 2025-09980 Filed 6-5-25; 8:45 am]

BILLING CODE 3810-FF-P